DEPARTMENT OF COMMERCE

International Trade Administration

[A-428-840, A-570-920]

Lightweight Thermal Paper From Germany and the People's Republic of China: Postponement of Preliminary Determinations of Antidumping Duty Investigations

AGENCY: Import Administration, International Trade Administration, Department of Commerce.

EFFECTIVE DATE: February 25, 2008.

FOR FURTHER INFORMATION CONTACT: Cindy Robinson or George McMahon (Germany), or Frances Veith (the People's Republic of China), AD/CVD Operations, Import Administration, International Trade Administration, U.S. Department of Commerce, 14th Street and Constitution Avenue, NW., Washington, DC 20230, telephone: (202) 482-3797, (202) 482-1167, (202) 482-4295, respectively.

SUPPLEMENTARY INFORMATION:

Postponement of Preliminary Determinations

On October 29, 2007, the Department of Commerce (the Department) initiated the antidumping duty investigations of lightweight thermal paper from Germany, the Republic of Korea, and the People's Republic of China (PRC). See Notice of Initiation of Antidumping Duty Investigations: Lightweight Thermal Paper from Germany, the Republic of Korea, and the People's Republic of China, 72 FR 62430 (November 5, 2007). The notice of initiation stated that the Department would issue its preliminary determinations for these investigations no later than 140 days after the date of issuance of the initiation, in accordance with section 733(b)(1)(A) of the Tariff Act of 1930, as amended (the Act). On December 5, 2007, the International Trade Commission (ITC) determined that imports of lightweight thermal paper from the Republic of Korea were negligible, and therefore, terminated the investigation with regard to the Republic of Korea. See Certain Lightweight Thermal Paper From China, Germany, and Korea, 72 FR 70343 (December 11, 2007). On February 6, 2008, the petitioner, Appleton Papers Inc. (Appleton), made a timely request pursuant to section 733(c)(1)(A) of the Act and 19 CFR 351.205(b)(2) and (e) for a 50-day postponement of the preliminary determinations. The petitioner requested postponement of the preliminary determinations for Germany and the PRC in order to allow for additional time to evaluate the respondents' questionnaire responses in these investigations. Under section 733(c)(1)(A) of the Act, if the petitioner makes a timely request for an extension of the period within which the preliminary determination must be made under subsection (b)(1), then the Department may postpone making the preliminary determination under subsection (b)(1) until not later than the 190th day after the date on which the administrative authority initiated the investigation. For the reason identified by the petitioner and because there are no compelling reasons to deny the request, the Department is postponing the deadline for the preliminary determinations under section 733(c)(1)(A) of the Act by 50 days to May 6, 2008. The deadline for the final determinations will continue to be 75 days after the date of the preliminary determinations, unless extended.

This notice is issued and published pursuant to section 733(c)(2) of the Act and 19 CFR 351.205(f)(1).

Dated: February 19, 2008.
David M. Spooner,
Assistant Secretary for Import Administration.

[FR Doc. E8-3534 Filed 2-22-08; 8:45 am]

BILLING CODE 3510-DS-P